DEPARTMENT OF JUSTICE

Executive Office for Immigration Review

Agency Information Collective Activities: Proposed Extension of Currently Approved Collection; Comments Requested

ACTION: 60-day notice of information collection under review; extension of currently approved collection; notice of entry of appearance as attorney or representative before the immigration court.

The United States Department of Justice, Executive Office for Immigration Review, has submitted the following information collection to the Office of Management and Budget (OMB) for review and approval in accordance with the Paperwork Reduction Act of 1995. The proposed information collection is published to obtain comments from the public and affected agencies. Comments are encouraged and will be accepted for 60-days until December 17, 2002. This process is in accordance with 5 CFR 1320.10.

If you have any comments, especially on the estimated public burden or associated response time, or suggestions, or need a copy of the proposed information collection instrument with instructions or additional information, please contact Charles Adkins-Blanch, General Counsel, Office of the General Counsel, Executive Office for Immigration Review, 5107 Leesburg Pike, Suite 2600, Falls Church, VA 22041.

Written comments and suggestions from the public and affected agencies concerning the proposed collection of information are encouraged. Your comments should address one or more of the following four points:

(1) Evaluate whether the collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including through the use of the appropriate automated, electronic, mechanical, or other technological collection techniques or other forms of information technology, e.g., permitting electronic submission of responses.

Overview of this information collection:

(1) Type of Information Collection: Extension of Currently Approved Collection.

(2) Title of the Form/Collection: Notice of Entry of Appearance as Attorney or Representative Before the Immigration Court.

(3) The agency form number, if any, and the applicable component of the Department of Justice sponsoring the collection: Form EOIR-28. Executive Office for Immigration Review.

(4) Affected public who will be asked or required to respond, as well as a brief abstract: Primary: Individuals. Other: Business or other for-profit; not-for-profit institutions. The information collected on EOIR-28 will be used (i) to determine whether or not a responding attorney or representative meets the regulatory criteria necessary to be authorized to represent aliens before the Immigration Court, (ii) to provide the responding represented party an opportunity to expressly consent to such representation and to release of Executive Office for Immigration Review records to the representative, and (iii) to notify the Immigration and Naturalization Service and the Executive Office for Immigration Review of such representation.

(5) An estimate of the total number of respondents and the amount of time estimated for an average respondent to respond: There are approximately 77,000 respondents who will each require 6 minutes to respond.

(6) An estimate of the total public burden (in hours) associated with the collection: The total annual public burden for this information collection is estimated to be 7,700 hours.

If additional information is required contact: Mr. Robert B. Briggs, Clearance Officer, United States Department of Justice, Information Management and Security Staff, Justice Management Division, 601 D Street, NW., Washington, DC 20004.

Dated: October 15, 2002.
Robert B. Briggs,
Clearance Officer, Department of Justice.

[FR Doc. 02-26558 Filed 10-17-02; 8:45 am]

BILLING CODE 4410-30-M